DEPARTMENT OF ENERGY

Federal Energy Regulatory Commission

[Docket No. RP99-324-005]

Gulf South Pipeline Company, LP; Notice of Compliance Filing

January 3, 2003.

Take notice that on December 4, 2002, Gulf South Pipeline Company, LP (Gulf South) tendered for filing a response to the Commission's Order on Compliance filing issued November 4, 2002 (101 FERC ¶ 61,156 (2002).

Gulf South states that the appropriate cost-based price of the fuel gas Gulf South transferred to the cash pool was $2.16, and $1.98 as suggested in the order. Gulf South asserts that if the Commission rejects the compliance filing based upon a $2.16 transfer price, Gulf South seeks rehearing of the Commission's holding that an accounting adjustment made to comply with Generally Accepted Accounting Principles (GAAP) provides an appropriate basis to adjust the “historical average weighted cost of excess retained fuel.

Gulf South states that if the Commission does not accept $2.16 as the appropriate transfer price, Gulf South will suffer further financial loss because it will be precluded from recovering the actual cost of the fuel gas transferred to operate the cash pool service.

Any person desiring to protest said filing should file a protest with the Federal Energy Regulatory Commission, 888 First Street, NE., Washington, DC 20426, in accordance with Section 385.211 of the Commission's Rules and Regulations. All such protests must be filed on or before January 10, 2003. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202)502-8659. The Commission strongly encourages electronic filings. See 18 CFR 385.2001(a)(1)(iii) and the instructions on the Commission's Web site under the “e-Filing” link.

Magalie R. Salas,
Secretary.

[FR Doc. 03-470 Filed 1-9-03; 8:45 am]

BILLING CODE 6717-01-P